NUCLEAR REGULATORY COMMISSION

10 CFR Part 72

[NRC-2009-0558]

Security Performance (Adversary) Characteristics for Physical Security Programs for 10 CFR Part 72 Licensees

AGENCY: Nuclear Regulatory Commission.

ACTION: Draft regulatory guide; discontinuation.

SUMMARY: The U.S. Nuclear Regulatory Commission (NRC) is discontinuing proposed Draft Regulatory Guide (DG), DG-5033, “Security Performance (Adversary) Characteristics for Physical Security Programs for 10 CFR Part 72 Licensees.” This DG was intended to support a new rule that would contain security requirements for Independent Spent Fuel Storage Installations (ISFSIs). Because the scope of the rulemaking has changed and the rule will no longer include the new requirements that DG-5033 was intended to support, the staff is discontinuing development of DG-5033.

DATES: The discontinuation of DG-5033 takes effect on May 29, 2020.

ADDRESSES: Please refer to Docket ID NRC-2009-0558 when contacting the NRC about the availability of information regarding these documents. You may obtain publicly-available information related to these documents using any of the following methods:

• Federal Rulemaking Website: Go to https://www.regulations.gov and search for Docket ID NRC-2009-0558. Address questions about NRC docket IDs in regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

FOR FURTHER INFORMATION CONTACT: Duane White, Office of Nuclear Security and Incident Response, telephone: 301-287-3627, email: Duane.White@nrc.gov, or Mekonen Bayssie, Office of Nuclear Regulatory Research, telephone: 301-415-1699, email: Mekonen.Bayssie@nrc.gov. Both are staff of the U.S. Nuclear Regulatory Commission, Washington, DC 20555-0001.

SUPPLEMENTARY INFORMATION: The NRC is discontinuing development of DG-5033, a non-public document containing Safeguards Information (SGI). This DG was intended to support a new rule that would include new security requirements for ISFSIs. On December 18, 2007, the Commission issued SRM-SECY-07-0148, “Independent Spent Fuel Storage Installation Security Requirements for Radiological Sabotage” (ADAMS Accession No. ML073530119), which approved the staff's recommendation to develop new, risk informed, performance-based security requirements applicable to all ISFSI licensees to enhance existing security requirements. The Commission also approved the staff's recommendation to develop regulatory guidance (i.e., DG-5033) for security scenarios for ISFSIs that would be bounded by the adversary characteristics supporting the design basis threat for radiological sabotage associated with power reactors. The staff developed DG-5033 in response and transmitted it to cleared stakeholders (i.e., individuals who were subject to fingerprinting and criminal history records checks for access to SGI and had an established “need to know”) for comment on March 21, 2011.

Subsequently, the Commission directed the staff in a non-public SRM for COMKLS-18-0003, “Fiscal Year 2020 Budget to the Commission,” dated August 22, 2018, to reduce the scope of the rulemaking and codify only the requirements of the security orders issued by the NRC following the terrorist attacks of September 11, 2001. As a result, the rule will no longer address security scenarios against which licensees would perform dose calculations and apply site specific radiological dose acceptance limits, which DG-5033 was intended to support. Therefore, the staff has determined that the development of DG-5033 is no longer warranted and is discontinued.

Dated: May 19, 2020.
For the Nuclear Regulatory Commission.
Thomas H. Boyce,
Chief, Regulatory Guidance and Generic Issues Branch, Division of Engineering, Office of Nuclear Regulatory Research.

[FR Doc. 2020-11202 Filed 5-28-20; 8:45 am]

BILLING CODE 7590-01-P